DEPARTMENT OF THE TREASURY

Submission for OMB Review; Comment Request

April 12, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before May 21, 2010 to be assured of consideration.

Internal Revenue Service (IRS)

OMB Number: 1545-1817.

Type of Review: Extension without change of a currently approved collection.

Title: Application for United States Residency Certification.

Form Number: 8802.

Abstract: All requests for U.S. residency certification must be received on Form 8802, Application for United States Residency Certification. This application must be sent to the Philadelphia Service Center. As proof of residency in the United States and of entitlement to the benefits of a tax treaty, U.S. treaty partner countries require a U.S. Government certification that you are a U.S. citizen, U.S. Corporation, U.S. partnership, or resident of the United States for purposes of taxation.

Respondents: Individuals or Households.

Estimated Total Burden Hours: 421,000 hours.

OMB Number: 1545-1534.

Type of Review: Extension without change of a currently approved collection.

Title: REG-252936-96 (TD 8780—Final) Rewards for Information Relating to Violations of Internal Revenue Laws.

Abstract: The regulations relate to rewards for information that results in the detection and punishment of violations of the Internal Revenue Laws.

Respondents: Private sector: Businesses or other for-profits.

Estimated Total Burden Hours: 30,000 hours.

OMB Number: 1545-1583.

Type of Review: Extension without change of a currently approved collection.

Title: REG-209322-82 (TD 8841—Final), Return of Partnership Income.

Abstract: Information is required to enable the IRS to verify that a taxpayer is reporting the correct amount of income or gain or claiming the correct amount of losses, deductions, or credits from that taxpayer's interest in the partnership.

Respondents: Private sector: Businesses or other for-profits.

Estimated Total Burden Hours: 1 hour.

OMB Number: 1545-1562.

Type of Review: Extension without change of a currently approved collection.

Title: Revenue Procedure 97-48, Automatic Relief for Late S Corporation Elections.

Abstract: The Small Business Job Protection Act of 1996 provides the IRS with the authority to grant relief for late S corporation elections. This revenue procedure provides that, in certain situations, taxpayers whose S corporation election was filed late can obtain relief by filing Form 2553 and attaching a statement explaining that the requirements of the revenue procedure have been met.

Respondents: Private sector: Businesses or other for-profits.

Estimated Total Burden Hours: 100 hours.

OMB Number: 1545-1448.

Type of Review: Extension without change of a currently approved collection.

Title: EE-81-88 (TD 8599—Final) Deductions for Transfers of Property.

Abstract: These regulations concern the Secretary's authority to require the filing of an information return under Code section 6041 and expand the requirement to furnish forms to certain corporate service providers.

Respondents: Private sector: Businesses or other for-profits.

Estimated Total Burden Hours: 1 hour.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-9120 Filed 4-20-10; 8:45 am]

BILLING CODE 4830-01-P